INTERNATIONAL TRADE COMMISSION

[USITC SE-09-025]

Government in the Sunshine Act Meeting Notice

AGENCY HOLDING THE MEETING: United States International Trade Commission.

TIME AND DATE: September 11, 2009 at 11 a.m.

PLACE: Room 101, 500 E Street, SW.,Washington, DC 20436, Telephone: (202) 205-2000.

STATUS: Open to the public.

Matters To Be Considered

1. Agenda for future meetings: None.

2. Minutes.

3. Ratification List.

4. Inv. Nos. 701-TA-468 and 731-TA-1166-1167 (Preliminary) (Certain Magnesia Carbon Bricks from China and Mexico)—briefing and vote. (The Commission is currently scheduled to transmit its determinations to the Secretary of Commerce on or before September 14, 2009; Commissioners' opinions are currently scheduled to be transmitted to the Secretary of Commerce on or before September 21, 2009.)

5. Outstanding action jackets: None.

In accordance with Commission policy, subject matter listed above, not disposed of at the scheduled meeting, may be carried over to the agenda of the following meeting. Earlier announcement of this meeting was not possible.

Issued: September 4, 2009.
By order of the Commission.
Marilyn R. Abbott,
Secretary to the Commission.

[FR Doc. E9-21881 Filed 9-8-09; 11:15 am]

BILLING CODE 7020-02-P